DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Population Survey, October 2002 School Enrollment Supplement.

Form Number(s): None.

Agency Approval Number: 0607-0464.

Type of Request: Revision of a currently approved collection.

Burden: 4,275 hours.

Number of Respondents: 57,000.

Avg Hours Per Response: 4 minutes and 30 seconds.

Needs and Uses: The Census Bureau requests OMB clearance for the supplemental inquiry concerning school enrollment to be conducted in conjunction with October 2002 Current Population Survey (CPS) interviewing. Selected items which monitored changes in the types of vocational education have been removed since the supplement was last conducted in 2001 and new items have been added to investigate the fields of study for post-secondary degrees and the use of public libraries.

This data series has existed for 40 years and provides basic information on enrollment status of various segments of the population necessary as background for policy formation and implementation. The CPS October supplement is the only annual source of data on public/private elementary and secondary school enrollment and characteristics of private school students and their families, which are used for tracking historical trends and for policy planning and support. It is the only source of national data on the age distribution and family characteristics of college students and the only source of demographic data on preprimary school enrollment. As part of the federal government's efforts to collect data and provide timely information to local governments for policymaking decisions, this survey provides national trends in enrollment and progress in school.

Affected Public: Individuals or households.

Frequency: Annually.

Respondent's Obligation: Voluntary.

Legal Authority: Title 13 U.S.C., section 182 and Title 29 U.S.C., sections 1-9.

OMB Desk Officer: Susan Schechter, (202) 395-5103.

Copies of the above information collection proposal can be obtained by calling or writing Madeleine Clayton, Departmental Paperwork Clearance Officer, (202) 482-3129, Department of Commerce, room 6608, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: July 11, 2002.
Madeleine Clayton,
Departmental Paperwork Clearance Officer, Office of the Chief Information Officer.

[FR Doc. 02-17895 Filed 7-15-02; 8:45 am]

BILLING CODE 3510-07-P